DEPARTMENT OF STATE

[Public Notice 5762]

Advisory Committee on Historical Diplomatic Documentation Notice of Meeting

Summary: The Advisory Committee on Historical Diplomatic Documentation will meet in the Department of State, 2201 “C” Street, NW., Washington, DC, June 4-5, 2007, in Conference Room 1107. Prior notification and a valid government-issued photo ID (such as driver's license, passport, U.S. government or military ID) are required for entrance into the building. Members of the public planning to attend must notify Chris Tudda, Office of the Historian (202-663-3054) no later than May 31, 2007 to provide date of birth, valid government-issued photo identification number and type (such as driver's license number/state, passport number/country, or U.S. government ID number/agency or military ID number/branch), and relevant telephone numbers. If you cannot provide one of the enumerated forms of ID, please consult with Chris Tudda for acceptable alternative forms of picture identification.

The Committee will meet in open session from 1:30 p.m. through 3 p.m. on Monday, June 4, 2007, in the Department of State, 2201 “C” Street NW., Washington, DC, in Conference Room 1107, to discuss declassification and transfer of Department of State records to the National Archives and Records Administration and the status of the Foreign Relations series. The remainder of the Committee's sessions from 3:15 p.m. until 4:30 p.m. on Monday, June 4, 2007, and 9 a.m. until 1 p.m. on Tuesday, June 5, 2007, will be closed in accordance with Section 10(d) of the Federal Advisory Committee Act (Pub. L. 92-463). The agenda calls for discussions of agency declassification decisions concerning the Foreign Relations series and other declassification issues. These are matters not subject to public disclosure under 5 U.S.C. 552b(c)(1) and the public interest requires that such activities be withheld from disclosure. Questions concerning the meeting should be directed to Marc J. Susser, Executive Secretary, Advisory Committee on Historical Diplomatic Documentation, Department of State, Office of the Historian, Washington, DC 20520, telephone (202) 663-1123, (e-mail history@state.gov).

Dated: April 18, 2007.
Marc Susser,
Executive Secretary, Department of State.

[FR Doc. E7-8111 Filed 4-26-07; 8:45 am]

BILLING CODE 4710-11-P